DEPARTMENT OF HEALTH AND HUMAN SERVICES

Health Resources and Services Administration

Statement of Organization, Functions and Delegations of Authority

This notice amends Part R of the Statement of Organization Functions and Delegations of Authority of the Department of Health and Human Services (HHS), Health Resources and Services Administration (HRSA) as amended at (60 FR 56605, November 6, 1995; amended at 67 FR 46519, July 15, 2002; 68 FR 787-793, January 7, 2003, and 68 FR 64357-64358, November 13, 2003; and last amended at 69 FR 56433-56434, September 21, 2004).

This notice reflects changes to the organization and functions of the Office of Communications (RA6) and the Office of Information Technology (RAG) both in the Office of the Administrator (RA): Specifically, it moves the Audio Visual technology support function from the Office of Information Technology to the Office of Communications.

Chapter RA—Office of the Administrator

Section RA-10, Organization

The Office of the Administrator (OA) is headed by the Administrator, Health Resources and Services Administration, who reports directly to the Secretary. The OA includes the following components:

(1) Immediate Office of the Administrator (RA);

(2) Office of Equal Opportunity and Civil Rights (RA2);

(3) Office of Planning and Evaluation (RA5);

(4) Office of Communications (RA6);

(5) Office of Minority Health and Health Disparities (RA9);

(6) Office of Legislation (RAE);

(7) Office of International Health Affairs (RAH); and

(8) Office of Information Technology (RAG).

Section RA-20, Functions

Delete the functional statements for the Office of Communications (RA6) and the Office of Information Technology (RAG) in their entirety and replace it with the following:

Office of Communication (RA6)

Provides leadership and general policy and program direction for, and conducts and coordinates communications and public affairs activities of the Agency; Specifically, (1) serves as focal point for coordination of Agency communications activities with those of other health agencies within the Department of Health and Human Services and with field, State, local, voluntary and professional organizations; (2) develops and implements national communications initiatives to inform and educate the public, health care professionals, policy makers and the media; (3) coordinates, researches, writes and prepares speeches and audiovisual presentations for the HRSA Administrator and Staff; (4) provides communication and public affairs expertise and staff advice and support to the Administrator in program and policy formulations and execution consistent with policy direction established by the Assistant Secretary for Public Affairs; (5) develops and implements policies and procedures related to external media relations and internal employee communications including those for the development, review, processing, quality control, and dissemination of Agency communications materials, including exhibits and those disseminated electronically; (6) serves as Communications and Public Affairs Officer for the Agency including establishment and maintenance of productive relationships with the news media; (7) serves as focal point for intergovernmental affairs for the Agency; (8) coordinates the implementation of the Freedom of Information Act for the Agency; and (9) manages audio visual and multimedia activities in support of communications efforts through multiple media formats.

Office of Information Technology (RAG)

Responsible for the organization, management, and administrative functions necessary to carry out the responsibilities of the Chief Information Officer including: Organization development, investment control, budget formulation and execution, policy development, strategic and tactical planning, and performance monitoring. Provides leadership in the development, review and implementation of policies and procedures to promote improved information technology management capabilities and best practices throughout HRSA. Coordinates IT workforce issues, works closely with the Departmental Office of Human Resources Management on IT recruitment and training. Carries out the responsibilities of the Chief Technology Officer (CTO) including the HRSA emerging and advanced technology integration program consistent with HRSA missions and program objectives. Provides leadership for strategic planning that leverages information systems security, program strategies, and advanced technology integration to achieve program objectives through innovative technology use.

Section RA-30, Delegations of Authority

All delegations and redelegations of authorities to officers and employees of the HRSA that were in effect immediately prior to the effective date of this action will be continued in effect pending further redelegation, provided they are consistent with this action.

This document is effective upon date of signature.

Dated: October 6, 2005.
Elizabeth M. Duke,
Administrator.

[FR Doc. 05-21033 Filed 10-20-05; 8:45 am]

BILLING CODE 4165-15-P